DEPARTMENT OF VETERANS AFFAIRS

38 CFR Part 21

RIN 2900-AL69

Reservists' Education: Revision of Eligibility Requirements for the Montgomery GI Bill—Selected Reserve

AGENCY: Department of Veterans Affairs.

ACTION: Final rule; technical amendment.

SUMMARY: The Department of Veterans Affairs (VA) published a document in the Federal Register on January 10, 2006 (71 FR 1496), revising eligibility requirements for the Montgomery GI Bill—Selected Reserve program. In that document, we inadvertently removed paragraphs (e)(2) through (e)(4) of § 21.7550 when we revised redesignated paragraph (e)(1). This document reinstates the dropped regulatory text of those paragraphs.

DATES: Effective on January 10, 2006.

FOR FURTHER INFORMATION CONTACT: Brandye R. Kidd, Management and Program Analyst, Department of Veterans Affairs (225C), 810 Vermont Ave., NW., Washington, DC 20420, (202) 273-7420.

SUPPLEMENTARY INFORMATION: The Department of Veterans Affairs (VA) made revisions to 38 CFR 21.7550(e) in order to update the regulations to reflect the date that reservists would no longer be eligible for benefits under the Montgomery GI Bill—Selected Reserve program. In making the necessary adjustments to reflect the appropriate time limits, paragraphs (e)(2) through(e)(4) of § 21.7550 were accidentally removed. A typographical error occurred in the amendatory instruction to the Office of Federal Register editor. We instructed the editor “to revise redesignated paragraph (e)” when it was our intention only to revise redesignated paragraph (e)(1). Consequently, the revised regulatory text of redesignated paragraph (e)(1) replaced paragraphs (e)(2) through (e)(4). This document reinstates the regulatory text of paragraphs (e)(2) through (e)(4) of § 21.7550.

List of Subjects in 38 CFR Part 21

Administrative practice and procedure, Armed forces, Civil rights, Claims, Colleges and universities, Conflicts of interest, Defense Department, Education, Employment, Grant programs—education, Grant programs—veterans, Health care, Loan programs—education, Loan programs—veterans, Manpower training programs, Reporting and recordkeeping requirements, Schools, Travel and transportation expenses, Veterans, Vocational education, Vocational rehabilitation.

Approved: April 19, 2006.
Robert C. McFetridge,
Acting Assistant to the Secretary for Regulation Policy and Management.

Accordingly, 38 CFR part 21, subpart L, is amended as follows:

PART 21—VOCATIONAL REHABILITATION AND EDUCATION

Subpart L—Educational Assistance for Members of the Selected Reserve

1. The authority citation for part 21, subpart L continues to read as follows:

Authority: 10 U.S.C. ch. 1606; 38 U.S.C. 501(a), 512, ch. 36, unless otherwise noted.

2. Amend § 21.7550 by adding paragraphs (e)(2) through (e)(4) to read as follows:

§ 21.7550 Ending dates of eligibility.

* * * * *

(e) * * *

(2) The conditions referred to in paragraph (e)(1) of this section for ceasing to be a member of the Selected Reserve are:

(i) The deactivation of the reservist's unit of assignment; and

(ii) The reservist's involuntarily ceasing to be designated as a member of the Selected Reserve pursuant to 10 U.S.C. 10143(a).

(3) The provisions of paragraphs (e)(1) and (e)(2) of this section do not apply if the reservist ceases to be a member of the Selected Reserve under adverse conditions, as characterized by the Secretary of the military department concerned. The expiration of such a reservist's period of eligibility will be on the date the reservist ceases, under adverse conditions, to be a member of the Selected Reserve.

(4) A reservist's period of eligibility will expire if he or she is a member of a reserve component of the Armed Forces and (after having involuntarily ceased to be a member of the Selected Reserve) is involuntarily separated from the Armed Forces under adverse conditions, as characterized by the Secretary of the military department concerned. The expiration of such a reservist's period of eligibility will be on the date the reservist is involuntarily separated under adverse conditions from the Armed Forces.

* * * * *

[FR Doc. 06-3910 Filed 4-25-06; 8:45 am]

BILLING CODE 8320-01-P